DEPARTMENT OF COMMERCE

National Oceanic and Atmospheric Administration

RIN 0648-XG74

Permits; Foreign Fishing

AGENCY: National Marine Fisheries Service (NMFS), National Oceanic and Atmospheric Administration (NOAA), Commerce.

ACTION: Notice; denial of permit.

SUMMARY: Notice is hereby given that a request for five transshipment permits regarding a foreign fishing application submitted under provisions of the Magnuson-Stevens Fishery Conservation and Management Act has been denied.

ADDRESSES: The application and related documents are available for review upon written request or by appointment in the following office:

Office of International Affairs, 1315 East-West Highway, Silver Spring, MD 20910.

FOR FURTHER INFORMATION CONTACT: Jennifer Olson, Office of International Affairs, (301) 713-2276.

SUPPLEMENTARY INFORMATION: NMFS received an application requesting authorization for five Mexican vessels to receive, within the Pacific waters of the U.S. EEZ south of 34000'N. lat. and east of 121000'W.long., transfers of live tuna from U.S. purse seiners for the purpose of transporting the tuna alive to an aquaculture facility located in Baja California, Mexico. On April 1, 2008 (73 FR 11327), NMFS published a notice of receipt for the application. Because the transshipment of purse seine-caught tuna is prohibited in the Eastern Pacific Ocean under 50 CFR 300.24(d) and 50 CFR 300.25(d), the application has been denied.

Dated: May 15, 2008.
Jean-Pierre Ple,
Acting Director, Office of International Affairs, National Marine Fisheries Service.

[FR Doc. E8-11251 Filed 5-19-08; 8:45 am]

BILLING CODE 3510-22-S